DEPARTMENT OF HEALTH AND HUMAN SERVICES

Administration for Children and Families

Submission for OMB Review; Comment Request

Title: Evaluation of the Refugee Social Service (RSS) and Targeted Assistance Formula Grant (TAG) Programs: Data Collection.

OMB No.: New Collection.

Description: The Office of Refugee Resettlement (ORR) within the U.S. Department of Health and Human Services (HHS) funds the Refugee Social Services (RSS) and Targeted Assistance Formula Grant (TAG) programs, which are designed to help refugees achieve economic success quickly following their arrival in the U.S. through employment services, English-language instruction, vocational training, and other social services. ORR is sponsoring a project to (1) conduct a comprehensive evaluation of the effectiveness of ORR employability services through RSS and TAG, and (2) propose options for institutionalizing ongoing evaluation and performance assessment into the programs. ORR is requesting OMB clearance for three methods of information collection: (1) Interviews with state and local refugee program administrators and service providers in three sites to learn about service delivery and organizational arrangements, and with a small number of local employers who work with RSS- and TAG-funded service providers to learn about their experiences with the programs; (2) a sample of 1,125 refugees to collect data on refugees' employment an earnings outcomes; (3) two to four focus groups with seven to ten program clients in each of the three sites to obtain customer perspectives of the services they received and their adjustment experiences.

Respondents

(1) Interviews will be conducted with three state refugee coordinators, voluntary agency (VOLAG) and Mutual Assistance Association (MAA) staff, local RSS and TAG service providers, and employers who employ significant numbers of refugees.

(2) The respondents of the survey are refugees who have been in the United States for fewer than five years, and, thus, are eligible for RSS and TAG services. The survey relies on a mixed-mode data collection method that involves both telephone and in-person interviews. If individuals cannot be reached by phone, an attempt will be made to contact them in person. Approximately 900 of the 1,125 refugees sampled will complete the survey over a nine-week period.

(3) Respondents of the focus groups will include refugees who have received RSS- and TAG-funded services. Approximately 70 refugees will participate in the focus groups.

Annual Burden Estimates
Instrument | Number of respondents | Number of responses per respondent | Average burden hours per response | Total burden hours
Interviews with program staff | 60 | 1 | 1 | 60
Interviews with employers | 12 | 1 | 2 | 24
Survey of refugees | 900 | 1 | 0.75 | 675
Focus group with program clients | 70 | 1 | 2 | 140

Estimated Total Annual Burden Hours: 899.

Additional Information

Copies of the proposed collection may be obtained by writing to the Administration for Children and Families, Office of Administration, Office of Information Services, 370 L'Enfant Promenade, SW., Washington, DC 20447, Attn: ACF Reports Clearance Officer. All requests should be identified by the title of the information collection. E-mail address: infocollection@acf.hhs.gov.

OMB Comment

OMB is required to make a decision concerning the collection of information between 30 and 60 days after publication of this document in the Federal Register. Therefore, a comment is best assured of having its full effect if OMB receives it within 30 days of publication. Written comments and recommendations for the proposed information collection should be sent directly to the following: Office of Management and Budget, Paperwork Reduction Project, Attn: Desk Officer for ACF, E-mail address: Katherine_T._Astrich@omb.eop.gov.

Dated: November 8, 2005.
Robert Sargis,
Reports Clearance Officer.

[FR Doc. 05-22625 Filed 11-14-05; 8:45 am]

BILLING CODE 4184-01-M